NUCLEAR REGULATORY COMMISSION

[Docket No. 50-285, License No. DPR-40; Docket No. 50-298, License No. DPR-46; NRC-2012-0014]

Request for Action Against Omaha Public Power District and Nebraska Public Power District

Notice is hereby given that by petitions dated June 26 and July 3, 2011, respectively, Thomas Saporito (the petitioner) has requested that the U.S. Nuclear Regulatory Commission (NRC or the Commission) take escalated enforcement actions against Omaha Public Power District, the licensee for Fort Calhoun Station, Unit 1 (FCS), and Nebraska Public Power District, the licensee for Cooper Nuclear Station (Cooper). The petitions dated June 26 and July 3, 2011, are publicly available in the NRC's Agencywide Documents Access and Management System (ADAMS) under Accession Nos. ML11182B029 and ML11192A285, respectively.

The petitioner has requested that the NRC take action to suspend or revoke the NRC licenses granted for the operation of nuclear power reactors and issue a notice of violation with a proposed civil penalty against the collectively named and each singularly named licensee in this matter—in the amount of $500,000 for Fort Calhoun Station and $1,000,000 for Cooper. Additionally, the petitioner requested that the NRC issue confirmatory orders to prohibit restart at FCS and to bring Cooper to a “cold shutdown” mode of operation until such time as: (1) The floodwaters subside to an appreciable lower level or sea level; (2) the licensee upgrades its flood protection plan; (3) the licensee repairs and enhances its current flood protection berms; and (4) the licensee upgrades its station blackout procedures to meet a challenging extended loss of offsite power due to floodwaters and other natural disasters or terrorist attacks.

As the basis for these requests, the petitioner stated that: (1) The licensees' installed flood protection measures and systems and barriers at FCS and Cooper are not sufficient to adequately protect the nuclear reactor from a full-meltdown scenario like that currently unfolding in Japan; and (2) the licensees' station blackout procedures are not sufficient to meet a challenging extended loss of offsite power due to flood waters and other natural disasters or terrorist attacks.

The requests are being treated pursuant to Title 10 of the Code of Federal Regulations Section 2.206 of the Commission's regulations. The requests have been referred to the Director of the Office of Nuclear Reactor Regulation. As provided by Section 2.206, appropriate action will be taken on these petitions within a reasonable time. The petitioner requested an opportunity to address the Petition Review Board (PRB). The PRB held a recorded teleconference with the petitioner on August 29, 2011, during which the petitioner supplemented and clarified the petitions. The results of those discussions were considered in the PRB's determination regarding the petitioner's requests. As a result, the PRB acknowledged the petitioner's concerns regarding flood protection, including station blackout procedures, at FCS and Cooper. By letter dated January 13, 2012 (ADAMS Accession No. ML120030022), the Director of the NRC's Office of Nuclear Reactor Regulation denied the petitioner's requests for immediate action. Additionally, the PRB noted that: (1) Natural disasters such as earthquakes and flooding, and (2) station blackout regulations are undergoing NRC review as part of the lessons learned from the Fukushima event. The PRB intends to use the results of the Fukushima review to inform its final decision on whether to implement the requested actions.

Copies of the petitions dated June 26 and July 3, 2011, are available for inspection at the NRC's Public Document Room (PDR), located at One White Flint North, Public File Area O1F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS should contact the NRC's PDR Reference staff by telephone at 1-(800) 397-4209 or (301) 415-4737, or by email to PDR.Resource@nrc.gov.

Dated at Rockville, Maryland, this 13th day of January 2012.
For the Nuclear Regulatory Commission.
Eric J. Leeds,
Director, Office of Nuclear Reactor Regulation.

[FR Doc. 2012-1370 Filed 1-23-12; 8:45 am]

BILLING CODE 7590-01-P